DEPARTMENT OF DEFENSE

Department of the Air Force

Positioning Systems Directorate Will Be Hosting an Interface Control Working Group (ICWG) Meeting for Document ICD-GPS-870

AGENCY: Interface Control Working Group (ICWG) meeting for document ICD-GPS-870.

ACTION: Meeting Notice.

SUMMARY: This notice informs the public that the Global Positioning Systems Directorate will be hosting an Interface Control Working Group (ICWG) meeting for document ICD-GPS-870, Navstar Next Generation GPS Operational Control Segment (OCX) to User Support Community Interfaces. This document captures the same interface as ICD-GPS-240 (Navstar GPS Control Segment to User Support Community Interfaces), but for the OCX era. Therefore, the meeting will only address the OCX data formats definition and the OCX information assurance requirements for data integrity. The ICWG is open to the general public. For those who would like to attend and participate in this ICWG meeting, you are requested to register to attend the meeting no later than 26 March 2011. Please send the registration to Jaime.valdivia.ctr@losangeles.af.mil and provide your name, organization, telephone number, address, and country of citizenship. More information, including Comments Resolution Matrix (CRM) form, Was/Is Matrix and Redlined ICD, will be posted at: http://www.gps.gov/technical/ICWG/& http://www.navcen.uscg.gov/ (under the News and Notices section) If you have any comments, please provide them in the CRM form and limit your comments to the Was/Is Matrix and the redlined areas of the ICDs which key on changes to the OCX data formats and IA requirements only. Submit your CRM comments to Jaime Valdivia by 26 March 2011.

Date/Time: 28 April 11/8 a.m.-5 p.m. DIAL-IN INFO and LOCATION:

Phone Number: 1-800-366-7242 Code: 1745510.

Address: SAIC Facility*, 300 N. Sepulveda Blvd, El Segundo, CA 90245, 2nd Floor, CR-2060, * Identification will be required at the entrance of the SAIC facility (Passport, State ID or Federal ID). SAIC facility phone number: 1-310-416-8300.

FOR FURTHER INFORMATION CONTACT: Jaime.valdivia.ctr@losangeles.af.mil 1-310-416-8375 or Captain Walter Miller walter.miller@losangeles.af.mil 1-310-653-3524

Bao-Anh Trinh,
Air Force Federal Register Liaison Officer.

[FR Doc. 2011-3264 Filed 2-11-11; 8:45 am]

BILLING CODE 5001-10-P